HARRY S. TRUMAN SCHOLARSHIP FOUNDATION

Sunshine Act Meeting: Meeting of the Trustees and Officers of the Harry S. Truman Scholarship Foundation, September 24, 2004, 11 a.m.-12:30 p.m., U.S. Capitol, Room HC-6

I. Call to order, Welcome, Approval of the Minutes of the Meeting of May 7, 2004;

II. Consideration of election of a Vice-President of the Truman Scholarship Foundation;

III. Adoption of a policy and implementation language for Truman Scholars Accountability;

IV. Discussion and Board Action on Proposed Three Year Trial of a Truman Fellows Program providing for a one-year professional experience in Washington following receipt of a baccalaureate degree and prior to graduate school;

V. Reauthorization of the Public Service Law Conference;

VI. Adoption of a Budget and approval of the Bulletin of Information for the 2004-2005 Year for the Foundation;

VII. Old Business;

VIII. New Business;

IX. Adjournment.

Dated: August 18, 2004.
Louis H. Blair,
Executive Secretary.

[FR Doc. 04-19554 Filed 8-23-04; 1:57 pm]

BILLING CODE 6820-AD-P